DEPARTMENT OF HEALTH AND HUMAN SERVICES

Administration for Children and Families

[Program Announcement No. ACYF-PA-HS-2000-09]

Fiscal Year 2000 Discretionary Announcement for the Head Start and Early Head Starts—Higher Education Faculty Initiative; Availability of Funds and Request for Applications

AGENCY: Administration on Children, Youth and Families, ACF, DHHS.

ACTION: Fiscal Year 2000 Discretionary Announcement for the Early Childhood Higher Education Faculty Initiative and Request for Application.

Statutory Authority 42 U.S. 9801, et. seq., The Head Start Act, as amended.

Catalog of Federal Deomestic Assistance (CFDA): 93.600 Head Start Act as amended.

SUMMARY: The Administration for Children and Families, Administration on Children, Youth and Families announces the availability of $1 million in funds to support one early childhood faculty initiative through a cooperative agreement. The cooperative agreement will be funded to provide opportunities for faculty in higher education to enhance their skills, knowledge and effectiveness as they teach teachers in Head Start and Early Head Start programs in order to insure better outcomes for children. A cooperative agreement is a form of Federal financial assistance that allows substantial Federal involvement in the activities for which funds are awarded.

Note: In order to satisfactorily compete under this announcement, it will be necessary for potential applicants to read the full announcement which is available through the Head Start Bureau's website: www2.acf.dhhs.gov/programs/hsb/announce/index.htm. Hard copies of the application may be obtained by writing or calling the ACYF Operations Center or sending an E-mail to: hs@lcgnet.com.

DATES: The closing date and time for the receipt of applications is 5:00 p.m. (Eastern Time Zone) on July 11, 2000. Applications received after the closing date will be classified as late.

ADDRESSES: Mail applications to: ACYF Operations Center, Attention: Early Childhood Higher Education Faculty Development Initiative Application, 1815 North Fort Myer Drive, Suite 300, Arlington, VA 22209 (1-800-351-2293). Prior to preparing and submitting an application, in order to satisfactorily compete under this announcement, it will be necessary for potential applicants to read the full announcement which is available through the Head Start Bureau's website:www2.acf.dhhs.gov/programs/hsb/announce/index.htm

FOR FURTHER INFORMATION CONTACT: ACYF Operations Center at: 1815 North Fort Myer Drive, Suite 300, Arlington, VA 22209 (1-800-351-2292) or telephone: 1-800-351-2293- or E-mail:hs@lcgnet.com.

Eligible Applicants: Universities, colleges, foundations, national organizations, public and private non-profit and for-profit agencies and organizations.

SUPPLEMENTARY INFORMATION: The purpose of this announcement is to request applications for the design, implementation and management oversight for conducting Early Childhood Higher Education Faculty Initiative. The result of this initiative will be to improve the quality and effectiveness of child outcomes in Head Start and Early Head Start and other early childhood development programs nationwide. This cooperative agreement will be for a five year project period.

Federal Share of Project Costs: The maximum Federal share is not to exceed $1 million for the first 12-month budget period and $1 million for each succeeding 12-month period.

Matching Requirements: Non-Federal match is not required.

Anticipated Number of Projects to be funded: It is anticipated that one project will be funded.

Evaluation Criteria

Applications received by the due date will be reviewed and scored competitively. Experts in the field, generally persons from outside the Federal government, will use the evaluation criteria listed below.

Criterion 1. Objectives and Need for Assistance: (25 Points)

The extent to which the application identifies relevant physical, economic, social, financial, institutional or other problems requiring a grant; demonstrates the need for assistance; states the principal and subordinate objectives of the project; provides supporting documentation or other testimonies from concerned interests other than the applicant.

Criterion 2. Results or Benefits Expected: (15 Points)

The extent to which the application identifies the results and benefits to be derived; describes the anticipated contribution to policy, practice, theory and/or research; specific benefits should be described for faculty preparing Head Start and Early Head Start teachers, home visitors, and their supervisors and the whole early childhood community working with children birth through five.

Criterion 3. Approach: (50 Points)

The extent to which the application outlines an acceptable plan of action pertaining to the scope of the project which details how the proposed work will be accomplished, including a timeline; list of each organization, consultants, including the evaluation process, or other key individuals who will work on the project along with a short description of the nature of their effort or contribution; assures the adequacy of time devoted to the project by key staff, the key staff should be knowledgeable of Head Start and Early Head Start, the applicant must fully describe the approach and/or methodology and delineate the relationship of each task to the accomplishment of the proposed objectives. There should be evidence that the planned approach reflects sufficient input from collaborating partners.

Criterion 4. Budget Appropriateness: (10 Points)

The extent to which the project's costs are reasonable in view of the activities to be carried out and the anticipated outcomes. The annual budget should include the cost for staff members to attend required conferences in the Washington, DC area.

State Single Point of Contact (SPOC)

This program is covered under Executive Order 12372, “Intergovernmental Review of Federal Programs,” and 45 CFR Part 100, “Intergovernmental Review of Department of Health and Human Services Program and Activities.” Under the Order, States may design their own processes for reviewing and commenting on proposed Federal assistance under covered programs.

Note: State/territory participation in the intergovernmental review process does not signify applicant eligibility for financial assistance under a program. A potential applicant must meet the eligibility requirements of the program for which it is applying prior to submitting an application to its SPOC, if applicable, or to ACF.

The following jurisdictions have elected not to participate in the Executive Order process: Alabama, Alaska, Colorado, Connecticut, Hawaii, Idaho, Kansas, Louisiana, Minnesota, Montana, Nebraska, New Jersey, New York, Ohio, Oklahoma, Oregon, Pennsylvania, South Dakota, Tennessee, Vermont, Virginia, Washington, American Samoa and Palau. Applicants from these jurisdictions or for projects administered by federally-recognized Indian Tribes need take no action in regard to E.O. 12372. Although the jurisidictions listed above no longer participate in the process, entities which have met the eligibility requirements of the program are still eligible to apply for a grant even if a State, Territory, Commonwealth, etc. does not have a SPOC. All remaining jurisdictions participate in the Executive Order process and have established SPOCs. Applicants from participating jurisdictions should contact their SPOC as soon as possible to alert them of the prospective applications and receive instructions .

Applicants must submit any required material to the SPOCs as soon as possible so that the program office can obtain and review SPOC comments as part of the award process. The applicant must submit all required materials, if any, to the SPOC and indicate the date of this submittal (or the date of contact if no submittal is required) on the Standard Form 424, item 16a.

Under 45 CFR 100.8(a)(2), a SPOC has 60 days from the application deadline to comment on proposed new or competing continuation awards.

SPOCs are encouraged to eliminate the submission of routine endorsements as official recommendations. Additionally, SPOCs are requested to clearly differentiate between mere advisory comments and those offical State process recommendations which may trigger the “accommodate or explain” rule. A list of the Single State Point of Contacts for each State and Territory can be found on the following website: http://www.whitehouse.gov/omb/grants/spoc.html.

When comments are submitted directly to ACF, they should be addressed to: William Wilson, Head Start Bureau, Office of Grants Management, 330 C. Street, SW, Washington, DC 20447. ATTN: Early Childhood Higher Education Faculty Initiative

Reminder: In order to satisfactorily compete under this announcement, it will be necessary for potential applicants to read the full announcement which is available through the Head Start Bureau's website: www2.acf.dhhs.gov/programs/hsb/announce/index.html. Mail applications to: ACYF Operations Center, Attention: Early Childhood Higher Education Faculty Initiative, 1815 North Fort Myers Drive, Suite 300, Arlington, VA 22209 (1-800-351-2293).

Dated: May 15, 2000.
Patricia Montoya,
Commissioner, Administration on Children, Youth and Families.

[FR Doc. 00-12695 Filed 5-19-00; 8:45 am]

BILLING CODE 4184-01-M